DEPARTMENT OF THE INTERIOR

National Park Service

[NPS-WASO-NAGPRA-NPS0025170; PPWOCRADN0-PCU00RP14.R50000]

Notice of Intent to Repatriate Cultural Items: La Plata County Historical Society, Durango, CO

AGENCY: National Park Service, Interior.

ACTION: Notice.

SUMMARY: The La Plata County Historical Society, in consultation with the appropriate Indian Tribes or Native Hawaiian organizations, has determined that the cultural items listed in this notice meet the definition of unassociated funerary objects. Lineal descendants or representatives of any Indian Tribe or Native Hawaiian organization not identified in this notice that wish to claim these cultural items should submit a written request to the La Plata County Historical Society. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the La Plata County Historical Society at the address in this notice by May 4, 2018.

ADDRESSES: Kathy McKenzie, Board President, La Plata County Historical Society, 3065 W 2nd Avenue, Durango, CO 81301, telephone (970) 259-2402, email director@animasmuseum.org.

SUPPLEMENTARY INFORMATION: Notice is here given in accordance with the Native American Graves Protection and Repatriation Act (NAGPRA), 25 U.S.C. 3005, of the intent to repatriate cultural items under the control of the La Plata County Historical Society, Durango, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1951 and 1971, 117 unassociated funerary objects were removed from 31 archeological sites within Dolores, La Plata, and Montezuma Counties in Colorado and San Juan and Rio Arriba Counties in New Mexico. They were excavated by George F. Stewart, an amateur archeologist and private collector from La Plata County, CO, who donated most of his collection to the La Plata County Historical Society in 1978. These unassociated funerary objects are all from Ancestral Puebloan sites dating from the Basketmaker III (A.D. 500) to the Pueblo III (A.D. 1300) periods. These objects include 107 ceramic objects (54 bowls, 16 jars, 13 pitchers, 7 seed jars, 6 ladles, 5 ollas, 4 pipes, and 2 dippers). Additionally, there are 2 stone pendants, 1 stone pipe, 1 flake, 1 concretion, 1 sandstone bowl, 1 bone awl, 1 bone bead, and 2 unidentifiable objects.

Between 1934 and 1936, one unassociated funerary object was removed from archeological site Ignacio 15:51, in the vicinity of Blue Mesa immediately south of the City of Durango, in La Plata County, CO. It was excavated by I.E. “Zeke” Flora, an avocational archeologist in the Durango area who then gave it to Helen Sloan Daniels for display in the Durango Public Library until it was donated to the La Plata County Historical Society in 1989. The one unassociated funerary object is a Rosa Black-on-White bowl and most likely belongs to the Pueblo I period in the Durango area (A.D. 700-850).

At an unknown time but between 1973 and 1985, one unassociated funerary object was removed from Morris 41 (LA5631), a large archeological site in San Juan County, NM. The previous owner of the property, Jon Pomeroy, was known to have bulldozed the site and donated a collection of artifacts to the La Plata County Historical Society in 1985. The one unassociated funerary object is a Mesa Verde Black-on-White ceramic mug and dates to the Pueblo III time period (A.D. 1050-1300) in northwestern New Mexico.

In summary, these 119 unassociated funerary objects were removed from archeological sites within southwest Colorado and northwest New Mexico. These unassociated funerary objects are all from Ancestral Puebloan sites dating from the Basketmaker III (A.D. 500) to the Pueblo III (A.D. 1300) periods. Archeological evidence indicates that these unassociated funerary objects can be classified as Ancestral Pueblo, but that no more specific cultural affiliation can be assigned reliably enough to make an affiliation statement to any particular Puebloan group. Cultural affiliation studies consulted include those from Mesa Verde, Navajo Reservoir, Canyons of the Ancients, and Animas La Plata. The preponderance of geographical, kinship, archeological, biological, linguistic, oral tradition, folklore, and ethnohistorical and/or historic evidence, as well as expert opinion, supports the conclusion that Ancestral Puebloan sites are culturally affiliated with modern Puebloan Tribes.

The possibility of shared group identity between the Athapaskan-speaking tribes of the Southwest (Navajo and Jicarilla Apache) and Ancestral Puebloans, as well as the Ute tribes and Ancestral Puebloans was also considered, but cultural affiliation was not supported by a preponderance of evidence. The Athapaskan-speaking Tribes of the Southwest have geographic, folklore, oral tradition, ethnohistorical, and/or historical ties to the area. Cross-cultural influences and intermarriage with Pueblos also support a relationship of shared group identity between Athapaskan and Pueblo groups. However, current archeological evidence does not support a common Athapaskan and Pueblo origin prior to about A.D. 1500. Thus, from an archeological perspective, the evidence does not support cultural affiliation for the Athapaskan-speaking Tribes with these Basketmaker and Pueblo period unassociated funerary objects. The Southern Ute Indian Tribe of the Southern Ute Reservation, the Ute Mountain Ute Tribe, and the Ute Indian Tribe of the Uintah and Ouray Reservation have geographic, ethnohistorical, and/or historical ties to the area and linguistic ties to the Hopi tribe. Intermarriage with Pueblo peoples is also recognized as a potential link between these groups. However, the body of evidence does not collectively support a common Ute and Pueblo origin. Therefore, a preponderance of evidence does not support cultural affiliation for the contemporary Ute tribes with these Basketmaker and Pueblo period unassociated funerary objects.

Determinations Made by the La Plata County Historical Society, Durango, CO

Officials of the La Plata County Historical Society have determined that:

• Pursuant to 25 U.S.C. 3001(3)(B), the 119 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as the Ysleta Del Sur Pueblo of Texas); and the Zuni Tribe of the Zuni Reservation, New Mexico, hereafter referred to as “The Tribes.”

Additional Requestors and Disposition

Lineal descendants or representatives of any Indian Tribe or Native Hawaiian organization not identified in this notice that wish to claim these cultural items should submit a written request with information in support of the claim to Kathy McKenzie, Board President, La Plata County Historical Society, 3065 W. 2nd Avenue, Durango, CO 81301, telephone (970) 259-2402, email director@animasmuseum.org, by May 4, 2018. After that date, if no additional claimants have come forward, transfer of control of the unassociated funerary objects to The Tribes may proceed.

The La Plata County Historical Society is responsible for notifying The Tribes that this notice has been published.

Dated: March 5, 2018.
Melanie O'Brien,
Manager, National NAGPRA Program.

[FR Doc. 2018-06834 Filed 4-3-18; 8:45 am]

BILLING CODE 4312-52-P